DEPARTMENT OF ENERGY

Federal Energy Regulatory Commission

[Project No. 2778-035]

Idaho Power Company; Notice of Availability of Draft Environmental Assessment

February 27, 2007.

In accordance with the National Environmental Policy Act of 1969 and the Federal Energy Regulatory Commission (Commission or FERC) regulations contained in the Code of Federal Regulations (CFR) (18 CFR Part 380 [FERC Order No. 486, 52 F.R. 47897]), the Office of Energy Projects staff (staff) reviewed the application for amendment of license for the Shoshone Falls Project, located on the Snake River, Jerome and Twin Falls Counties, Idaho, and prepared a draft environmental assessment (DEA) for the project. Within the project boundary, 1.97 acres of lands are owned by the U.S. Bureau of Land Management. In this DEA, staff analyzes the potential environmental effects of the proposed amendment of license and concludes that the proposal would not constitute a major federal action significantly affecting the quality of the human environment.

A copy of the DEA is available for review at the Commission in the Public Reference Room, or it may be viewed on the Commission's Web site at http://www.ferc.gov using the e-Library link. Enter the docket number (P-2778) in the docket number field to access the document. For assistance, call (202) 502-8222 or (202) 502-8659 (for TTY).

Any comments should be filed by March 30, 2007, and should be addressed to Secretary, Federal Energy Regulatory Commission, 888 First Street, NE., Washington, DC 20426. Please reference Shoshone Falls Project No. 2778-035, on all comments. For further information on this notice, please contact Robert Fletcher at (202) 502-8901, or at robert.fletcher@ferc.gov.

Comments may be filed electronically via the Internet in lieu of paper. See 18 CFR 385.2001 (a)(1)(iii) and the instructions on the Commission's Web site at http://www.ferc.gov under the e-Filing link. The Commission strongly encourages electronic filings.

Magalie R. Salas,
Secretary.

[FR Doc. E7-3967 Filed 3-6-07; 8:45 am]

BILLING CODE 6717-01-P